DEPARTMENT OF JUSTICE

Notice of Lodging of Proposed Consent Decree Under the Comprehensive Environmental Response, Compensation and Liability Act

On December 13, 2013, the Department of Justice lodged a proposed Consent Decree (“Decree”) with the United States District Court for the Eastern District of Pennsylvania in the lawsuit entitled United States v. Strube, Inc., et al, Civil Action No. 5:13-cv-07303-JS.

In this action the United States, on behalf of the Environmental Protection Agency (“EPA”), filed a complaint against Defendants Strube, Inc., Tammie L. Dallmeyer and Carl E. Dallmeyer as Personal Representatives of the Estate of Craig E. Dallmeyer, and Donald C. Dallmeyer (“Defendants”) under the Comprehensive Environmental Response, Compensation and Liability Act (“CERCLA”). The complaint seeks the recovery of costs the United States incurred responding to the release or threat of release of hazardous substances at the Strube, Inc. Superfund Site in Lancaster County, Pennsylvania. Under the Consent Decree, defendant Strube will pay $80,000.00 towards EPA's past response costs and defendants Donald C. Dallmeyer and the Estate of Craig E. Dallmeyer will pay $175,000.00 towards EPA's past response costs. Additionally, the United States Department of Defense (“DOD”) will resolve its potential liability at the Site under this Decree by paying $1,500,000.00 towards EPA's past response costs.

The publication of this notice opens a period for public comment on the Decree. Comments should be addressed to the Acting Assistant Attorney General, Environment and Natural Resources Division and should refer to United States v. Strube, Inc., et al., D.J. Ref. 90-11-3-10488. All comments must be submitted no later than thirty (30) days after the publication date of this notice. Comments may be submitted either by email or by mail:

To submit comments: | Send them to:
By e-mail | pubcomment-ees.enrd@usdoj.gov.
By mail | Acting Assistant Attorney General, U.S. DOJ-ENRD, P.O. Box 7611, Washington, DC 20044-7611.

During the public comment period, the Decree may be examined on the following Department of Justice Web site: http://www.usdoj.gov/enrd/Consent_Decrees.html. We will provide a paper copy of the Decree upon written request and payment of reproduction costs. Please mail your request and payment to: Consent Decree Library, U.S. DOJ—ENRD, P.O. Box 7611, Washington, DC 20044-7611.

Please enclose a check or money order in the amount of $9.50 (.25 cents per page reproduction cost) payable to the U.S. Treasury.

Robert Brook,
Assistant Section Chief, Environmental Enforcement Section, Environment and Natural Resources Division.

[FR Doc. 2013-30355 Filed 12-20-13; 8:45 am]

BILLING CODE 4410-15-P